GULF COAST ECOSYSTEM RESTORATION COUNCIL

[Docket No.: 108002015-1111-06]

Draft Funded Priorities List

AGENCY: Gulf Coast Ecosystem Restoration Council.

ACTION: Notice of availability; request for comments.

SUMMARY: In accordance with the Resources and Ecosystems Sustainability, Tourist Opportunities, and Revived Economies of the Gulf States Act (RESTORE Act or Act), the Gulf Coast Ecosystem Restoration Council (Council) announces the availability of the Initial Draft Funded Priorities List (draft FPL). The draft FPL sets forth the initial activities that the Council proposes to prioritize for funding and further consideration. This document is now available for public and tribal review and comment.

DATES: To ensure consideration, we must receive your written comments on the draft FPL by September 28, 2015.

ADDRESSES: You may submit comments on the draft FPL by either of the following methods:

• Electronic Submission: Submit all electronic public comments by email to DraftFPLcomments@restorethegulf.gov.

• Mail/Commercial Delivery: Please send a copy of your comments to Gulf Coast Ecosystem Restoration Council, Attention: Draft FPL Comments, Hale Boggs Federal Building, 500 Poydras Street, Suite 1117, New Orleans, LA 70130.

In general, the Council will make such comments available for public inspection and copying on its Web site, http://www.restorethegulf.gov/ without change, including any business or personal information provided, such as names, addresses, email addresses, or telephone numbers. All comments received, including attachments and other supporting materials, will be part of the public record and subject to public disclosure. You should only submit information that you wish to make publicly available.

FOR FURTHER INFORMATION CONTACT: Please send questions by email to DraftFPLcomments@restorethegulf.gov, or contact Will Spoon at (504) 239-9814.

SUPPLEMENTARY INFORMATION: Background: In 2010, the Deepwater Horizon oil spill caused extensive damage to the Gulf Coast's natural resources, devastating the economies and communities that rely on it. In an effort to help the region rebuild in the wake of the spill, Congress passed and the President signed the RESTORE Act, Public Law 112-141, §§ 1601-1608, 126 Stat. 588 (Jul. 6, 2012). The Act created the Gulf Coast Ecosystem Restoration Trust Fund (Trust Fund) and dedicates eighty percent (80%) of any civil and administrative penalties paid by parties responsible for the Deepwater Horizon oil spill under the Clean Water Act, after the date of enactment, to the Trust Fund. The ultimate amount of administrative and civil penalties potentially available to the Trust Fund is currently not certain. On January 3, 2013, the United States announced that Transocean Deepwater Inc. and related entities agreed to pay $1 billion in civil penalties for violating the Clean Water Act in relation to their conduct in the Deepwater Horizon oil spill. The settlement was approved by the court in February 2013, and pursuant to the Act approximately $816 million (including interest) has been paid into the Trust Fund.

In addition to creating the Trust Fund, the Act established the Council, which is chaired by the Secretary of Commerce and includes the Governors of Alabama, Florida, Louisiana, Mississippi, and Texas, and the Secretaries of the U.S. Departments of Agriculture, the Army, Homeland Security, and the Interior, and the Administrator of the U.S. Environmental Protection Agency.

Under the Act, the Council will administer a portion of the Trust Fund known as the Council-Selected Restoration Component in order to “undertake projects and programs, using the best available science, that would restore and protect the natural resources, ecosystems, fisheries, marine and wildlife habitats, beaches, coastal wetlands, and economy of the Gulf Coast.” In August 2013 the Council approved an Initial Comprehensive Plan (Initial Plan) (please see http://www.restorethegulf.gov/sites/default/files/GCERCCompPlanFactSheet_0.pdf and http://www.restorethegulf.gov/sites/default/files/FinalInitialComprehensivePlan.pdf) that outlines an overarching vision for Gulf restoration and includes the following five goals: (1) Restore and conserve habitat; (2) restore water quality; (3) replenish and protect living coastal and marine resources; (4) enhance community resilience; and (5) restore and revitalize the gulf economy.

As a supplement to the Initial Plan and pursuant to the requirement in the Restore Act to draft a “prioritized list of specific projects and programs to be funded,” the Council is now publishing a draft FPL that proposes the activities which the Council intends to prioritize for funding and further consideration. The Council will carefully review public and tribal comments, make appropriate changes, and then finalize the FPL with appropriate notice in the Federal Register. Once finalized, the FPL will serve as the basis for allocating funds under the Council-Selected Restoration Component.

The Council seeks public and tribal comment on all aspects of the draft FPL, including comments related to the process used to develop the draft FPL, the projects and programs contained therein, and the associated environmental compliance documentation.

Summary: The Gulf Coast region is vital to our nation and our economy, providing valuable energy resources, abundant seafood, extraordinary beaches and recreational activities, and a rich natural and cultural heritage. Its waters and coasts are home to one of the most diverse natural environments in the world—including over 15,000 species of sea life and millions of migratory birds. The Gulf has endured catastrophes, including major hurricanes such as Katrina, Rita, Gustav and Ike in the last ten years alone. The region has also experienced the loss of critical wetland habitats, erosion of barrier islands, imperiled fisheries, water quality degradation and significant coastal land loss. More recently, the health of the region's ecosystem was significantly affected by the Deepwater Horizon oil spill. As a result of the oil spill, the Council has been given the great responsibility of helping to address ecological challenges across the Gulf.

The members of the Council collaborated in creating a draft FPL that responds to ecological needs regardless of jurisdictional boundaries. With the draft FPL, the Council seeks to provide near-term “on-the-ground” ecosystem benefits, while also building a planning and science foundation for future success. In the draft FPL, the Council proposes to focus on ten key watersheds across the Gulf in order to concentrate and leverage available funds in addressing critical ecological needs in high-priority locations. The draft FPL focuses on habitat and water quality, and includes restoration and conservation activities that can be implemented in the near term. It also supports project-specific planning efforts necessary to advance large-scale restoration. The comprehensive planning and monitoring efforts proposed in the draft FPL would provide Gulf-wide benefits into the future.

The Council intends to play a key role in helping to ensure that the Gulf's natural resources are sustainable and available for future generations. Currently available Gulf restoration funds and those that may become available in the future represent a great responsibility. The ongoing involvement of the people who live, work and play in the Gulf region is critical to ensuring that these monies are used wisely and effectively. The Council thanks all those who have participated in the process thus far, and offers thanks in advance to those who will take the time to again offer thoughts on how we can collectively help restore the Gulf.

Document Availability: Copies of the draft FPL are available at the following office during regular business hours: Gulf Coast Ecosystem Restoration Council, Hale Boggs Federal Building, 500 Poydras Street, Suite 1117, New Orleans, LA 70130.

Electronic versions of the draft FPL can be viewed and downloaded at www.restorethegulf.gov.

Legal Authority: The statutory program authority for the draft FPL is found at 33 U.S.C. 1321(t)(2).

Dated: August 13, 2015.
Will D. Spoon,
Program Analyst, Gulf Coast Ecosystem Restoration Council.

[FR Doc. 2015-19881 Filed 8-12-15; 8:45 am]

BILLING CODE P